DEPARTMENT OF THE INTERIOR

National Park Service

Gaviota Coast Seashore Feasibility Study, Santa Barbara County, CA; Notice of Intent To Prepare an Environmental Impact Statement

SUMMARY: In accordance with § 102(2)(C) of the National Environmental Policy Act (42 U.S.C. 4321 et seq.), the National Park Service (NPS) is undertaking a conservation planning and impact analysis process to identify and assess potential impacts of alternative resource protection and visitor use concepts and other considerations within the Gaviota Coast Seashore Feasibility Study area in Santa Barbara County. Notice is hereby given that a public scoping process has been initiated to prepare an environmental impact statement (EIS) and feasibility study report. The purpose of the scoping process is to elicit public comment regarding the full spectrum of public issues and concerns, including a suitable range of alternatives, appropriate boundaries, and the nature and extent of potential environmental impacts and appropriate mitigation strategies which should be addressed in the EIS process.

Background: As authorized by Pub.L. 106-113, and H.R. 3194 Conference Report, November 17, 1999, Title III, § 326, the NPS is conducting a feasibility study to determine the potential for designating the Gaviota Coast as a unit of the National Park System. The Gaviota Coast study area includes approximately 76 miles of coastline and 200,000 acres of land. It is entirely within Santa Barbara County, California, and extends from Coal Oil Point in Isla Vista northerly to Point Sal at the northern boundary of Vandenberg Air Force Base. The study area boundary extends inland to the watershed crests except in the Santa Ynez Valley, where it is primarily limited to Vandenberg Air Force Base. Inshore coastal waters will also be addressed in the feasibility study.

In conducting the Gaviota Coast feasibility study, the NPS will evaluate the national significance of the area's natural, cultural, and recreational resources. The NPS will also assess the area's suitability and feasibility to be a unit of the National Park System, whereby factors which the NPS study team will evaluate include: Whether the Gaviota Coast includes types or quality of resources not already adequately represented in the National Park System; whether long-term protection and public use of the area are feasible, and; whether the area can be adequately protected and administered at a reasonable cost.

The NPS will also consider: alternative boundaries and strategies for the management, protection and use of significant resources within the overall study area, including management by other public agencies or the private sector; technical or financial assistance available from established programs or special initiatives and partnerships; alternative designations to a National Seashore (e.g., Heritage Area), and; cooperative management by NPS and other entities.

After public input and review of a draft feasibility study report, alternatives will be identified and evaluated, and the results transmitted to Congress in a final feasibility study report.

Scoping to Date/Comments: Various newsletters and press releases issued during the initial scoping process for environmental impact analysis indicated initial consideration had been given to preparing an Environmental Assessment. Preliminary public information activities were undertaken beginning in January 2000. These included three public meetings in Santa Barbara, Goleta, and Lompoc, as well as two invitational workshops in Gaviota to explore desired future conditions for the coast. In addition, scoping meetings were held with a wide representation of stakeholder groups and interested organizations. Approximately 200 responses were received by letter, comment sheets, e-mail, and Internet web page forms. Two newsletter mailings describing the planning process and preliminary identification of issues were also widely distributed. Upon consideration of public responses obtained through this initial public involvement, it has been determined that an Environmental Impact Statement will be prepared.

All comments received during the initial phase have been fully documented and have already aided this conservation planning and environmental impact analysis process, as noted above. A summary of all issues and concerns generated to date is available on request—this summary and additional information about the study can also be obtained on the Internet at http://www.nps.gov/pwro/gaviota/.

In addition to the extensive public involvement undertaken to date, formal scoping for the feasibility study and EIS is hereby initiated. All interested individuals, organizations and agencies wishing to provide additional comments, suggestions, or relevant information (or those wishing to be added to the project mailing list) should respond to Gaviota Coast Feasibility Study Team, Attn: Ray Murray, National Park Service, 600 Harrison Street, Suite 600, San Francisco, CA 94107. All written comments must be postmarked not later than October 9, 2000 (or if via e-mail, transmitted no later than this date to PGSO_Gaviota@nps.gov).

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision Process: Availability of the draft EIS for review and written comment will be announced by Federal Register notice, via local and regional news media, and direct mailing. At this time the draft EIS is anticipated to be available for public review in June 2001, and that subsequently a final EIS will be completed in January 2002. To afford additional opportunity to comment on the draft EIS after it is distributed, public meetings will be held in the Gaviota Coast area (dates and locations to be determined). Notice of the availability of the final EIS will likewise be published in the Federal Register. The official responsible for the initial recommendation is the Regional Director, Pacific West Region, National Park Service. The official responsible for amending or ratifying the recommendation and transmitting to the Secretary of the Interior is the Director, National Park Service. The Secretary determines whether to forward the recommendation to Congress for their consideration.

Dated: August 31, 2000.
Holly Bundock,
Acting Regional Director, Pacific West Region.

[FR Doc. 00-23329 Filed 9-11-00; 8:45 am]

BILLING CODE 4310-70-P